DEPARTMENT OF DEFENSE

Department of the Army, Corps of Engineers

Guidance To Establish Policies for the Agency Levee Safety Program Entitled Engineer Circular 1165-2-218

AGENCY: U.S. Army Corps of Engineers, Department of Defense.

ACTION: Notice.

SUMMARY: The U.S. Army Corps of Engineers (USACE) has developed draft agency guidance, entitled Engineer Circular 1165-2-218, to consolidate and formalize policies and procedures for its Levee Safety Program. The intent of the Levee Safety Program is to understand, monitor, and manage flood risk associated with levees over time, provide a framework to sustain long term benefits, and adapt activities and actions based on the dynamic nature of flood risk. USACE is seeking feedback from non-federal levee sponsors, interested associations, Tribes, other federal agencies, and any other interested individuals on this proposed draft guidance document. This notice announces the availability of the draft Engineer Circular for comment. The comment period on the draft document starts with the publication of this notice in the Federal Register and will last for 60 days. The draft Engineer Circular is available for review on the USACE Levee Safety Program website (https://www.usace.army.mil/Missions/Civil-Works/Levee-Safety-Program/) and at (http://www.regulations.gov) reference docket number COE-2020-0003.

DATES: Comments must be submitted on or before April 27, 2020.

ADDRESSES: You may submit comments identified by docket number COE-2020-0003 by any of the following methods:

Federal eRulemaking Portal: http://www.regulations.gov (http://www.regulations.gov). Follow the instructions for submitting comments.

Email: EC218@usace.army.mil (mail to: EC218@usace.army.mil) and include the docket number, COE-2020-0003, in the subject line of the message.

Mail: U.S. Army Corps of Engineers, Attn: CECW-EC/3E62, 441 G Street NW, Washington, DC 20314-1000.

Hand Delivery/Courier: Due to security requirements, we cannot receive comments by hand delivery or courier.

Instructions: If submitting comments through the Federal eRulemaking Portal, direct your comments to docket number COE-2020-0003. All comments received will be included in the public docket without change and may be made available on-line at http://www.regulations.gov (http://www.regulations.gov), including any personal information provided, unless the commenter indicates that the comment includes information claimed to be Confidential Business Information (CBI) or other information whose disclosure is restricted by statute. Do not submit information that you consider to be CBI, or otherwise protected, through regulations.gov or email. The regulations.gov website is an anonymous access system, which means we will not know your identity or contact information unless you provide it in the body of your comment. If you send an email directly to USACE without going through regulations.gov, your email address will be automatically captured and included as part of the comment that is placed in the public docket and made available on the internet. If you submit an electronic comment, we recommend that you include your name and other contact information in the body of your comment and with any disk or CD-ROM you submit. If we cannot read your comment because of technical difficulties and cannot contact you for clarification, we may not be able to consider your comment. Electronic comments should avoid the use of any special characters, any form of encryption, and be free of any defects or viruses.

Docket: For access to the docket to read background documents or comments received, go to www.regulations.gov (http://www.regulations.gov). All documents in the docket are listed. Although listed in the index, some information is not publicly available, such as CBI or other information whose disclosure is restricted by statute. Certain other material, such as copyrighted material, is not placed on the internet and will be publicly available only in hard copy form.

FOR FURTHER INFORMATION CONTACT: Ms. Tammy Conforti at 202-761-4649, email EC218@usace.army.mil (mail to: EC218@usace.army.mil) or visit http://www.usace.army.mil/Missions/Civil-Works/Levee-Safety-Program/ (http://www.usace.army.mil/Missions/Civil-Works/Levee-Safety-Program/).

SUPPLEMENTARY INFORMATION: Engineer Circular 1165-2-218, U.S. Army Corps of Engineers (USACE) Levee Safety Program, provides the context and policies for the implementation of program activities. Although Engineer Circulars are typically used to establish internal agency policy, this document has been drafted to include four volumes applicable to both USACE and non-federal levee sponsors. The Engineer Circular will be temporary in nature and will expire two years after the date of publication, providing USACE time to learn through implementation experience, identify clarifications or additional resources required, and to work with our partners in implementing the program. After two years, Engineer Circular 1165-2-218 will either be revised, rescinded, or converted to an Engineer Regulation, which does not expire.

Questions to Shape Focus of Public Comment Review: The purpose of this review is to solicit feedback on clarity and understandability of the draft Engineer Circular; on clarity and appropriateness of roles and responsibilities related to the program; and on clarity of program objectives, requirements, and available support. Commenters are encouraged to use the following questions to guide their feedback:

Question 1: Are the goals and objectives of the USACE Levee Safety Program clearly stated? Please articulate any improvements or clarifications needed.

Question 2: Are the roles and responsibilities of non-federal levee sponsors clearly described? Please describe any improvements or clarifications needed.

Question 3: Are the activities and services provided by USACE understood? Please articulate any improvements or clarifications needed.

Question 4: Is how and when USACE engages with non-federal levee sponsors and other stakeholders throughout program activities clearly described? Please describe any improvements or clarification needed.

Question 5: Is it clear what assistance and support USACE can provide non-federal levee sponsors in the long-term management of flood risk? Please describe any improvements or clarifications needed.

Question 6: Are there any other materials or resources that would be helpful for non-federal levee sponsors or communities related to managing levees?

Question 7: Are there any opportunities to improve the USACE Levee Safety Program to further support public awareness of the risks and benefits of levees? Please identify specific activities or materials USACE should consider.

Question 8: Are there any specific changes you would recommend to improve the USACE Levee Safety Program?

Future Actions: In addition, USACE will be hosting two public webinars and five public meetings to provide an overview of the draft Engineer Circular and directions on how to provide comments. For information about the webinars and public meetings visit the USACE Civil Works Levee Safety Program website (http://www.usace.army.mil/Missions/Civil-Works/Levee-Safety-Program/). Feedback and comments provided in response to this notice will be considered and the draft Engineer Circular will be updated as appropriate. When the final Engineer Circular is published, a notice will be placed in the Federal Register and on the USACE Civil Works Levee Safety Program website (http://www.usace.army.mil/Missions/Civil-Works/Levee-Safety-Program/). The final document itself will be made available through the USACE publications website (http://www.publications.usace.army.mil/).

Dated: February 19, 2020.
R.D. James,
Assistant Secretary of the Army, Civil Works.

[FR Doc. 2020-03726 Filed 2-24-20; 8:45 am]

BILLING CODE 3720-58-P